DEPARTMENT OF LABOR

Employment and Training Administration

Workforce Investment Act: Native American Employment and Training Council

AGENCY: Employment and Training Administration, U.S. Department of Labor.

ACTION: Notice of Meeting.

SUMMARY: Pursuant to Section 10(a)(2) of the Federal Advisory Committee Act (FACA) (Pub. L. 92-463), as amended, and Section 166(h)(4) of the Workforce Investment Act (WIA) [29 U.S.C. 2911(h)(4)], notice is hereby given of the next meeting of the Native American Employment and Training Council (Council), as constituted under WIA.

DATES: The meeting will begin at 9:00 a.m. (Eastern Time) on Tuesday, December 10, 2013, and continue until 5:00 p.m. that day. The meeting will reconvene at 8:30 a.m. on Wednesday, December 11, 2013, and adjourn at 4:30 p.m. that day. The period from 2:00 p.m. to 4:00 p.m. on December 11, 2013, will be reserved for participation and presentations by members of the public. The meeting will reconvene at 9:00 a.m. on Thursday, December 12, 2013, and adjourn at 12:00 p.m. that day.

ADDRESSES: The meeting will be held at the U.S. Department of Labor, Francis Perkins Building, 200 Constitution Avenue, Northwest, Room 5515, Room 1, Washington, DC 20210.

SUPPLEMENTARY INFORMATION: The meeting is open to the public. Members of the public interested in providing comment can also call 888-396-9185, participant passcode: 8137947 on December 11, 2013 from 2:00 p.m. through 4:00 p.m. (Eastern Time).

Members of the public not present may submit a written statement on or before December 6, 2013, to be included in the record of the meeting. Submit written statements to Mrs. Evangeline M. Campbell, Designated Federal Official (DFO), U.S. Department of Labor, 200 Constitution Avenue, Northwest, Room S-4209, Washington, DC 20210. Persons who need special accommodations should contact Mr. Craig Lewis at (202) 693-3384, at least two business days before the meeting. The formal agenda will focus on the following topics: (1) Program Year 2013 and 2014 Strategic Plan; (2) U.S. Department of Labor (DOL), Employment and Training Administration Update; (3) Training and Technical Assistance; (4) Statement of Urgency White Paper on Our Story Projects; and (5) Council Update and Recommendations.

FOR FURTHER INFORMATION CONTACT: Mrs. Evangeline M. Campbell, DFO, Division of Indian and Native American Programs, Employment and Training Administration, U.S. Department of Labor, Room S-4209, 200 Constitution Avenue, Northwest, Washington, DC 20210. Telephone number (202) 693-3737 (VOICE) (this is not a toll-free number).

Signed at Washington, DC, this 8th day of November 2013.
Eric M. Seleznow,
Acting Assistant Secretary, Employment and Training Administration.

[FR Doc. 2013-27943 Filed 11-20-13; 8:45 am]

BILLING CODE 4501-FR-P